DEPARTMENT OF THE INTERIOR

Bureau of Land Management

[LLIDT000000.L11200000.DD0000.241A.00]

Notice of Public Meetings, Twin Falls District Resource Advisory Council, Idaho

AGENCY: Bureau of Land Management, Interior.

ACTION: Notice of Public Meetings.

SUMMARY: In accordance with the Federal Land Policy and Management Act (FLPMA), the Federal Advisory Committee Act of 1972 (FACA), the U.S. Department of the Interior, Bureau of Land Management (BLM) Twin Falls District Resource Advisory Council (RAC) will meet as indicated below.

DATES: The Twin Falls District Resource Advisory Council will participate in a field tour of the Bruneau Overlook and the Saylor Creek Wild Horse Herd Management Area. The tour will take place June 24, 2014. RAC members will meet at the Idaho Department of Labor building, 420 Falls Ave., Twin Falls, ID, 83301 8:30 a.m. for a short meeting prior to traveling to the Hagerman area for the field tour. A public comment period will take place from 8:45 a.m.-9:15 a.m.

FOR FURTHER INFORMATION CONTACT: Heather Tiel-Nelson, Twin Falls District, Idaho 2536 Kimberly Road, Twin Falls, Idaho, 83301, (208) 736-2352.

SUPPLEMENTARY INFORMATION: The 15-member RAC advises the Secretary of the Interior, through the Bureau of Land Management, on a variety of planning and management issues associated with public land management in Idaho. The purpose of the June 24th tour is to learn more about the proposed improvements to the Bruneau Overlook area and to receive a status update about the Saylor Creek wild horse herd.

Additional topics may be added and will be included in local media announcements. More information is available at www.blm.gov/id/st/en/res/resource_advisory.3.html. RAC meetings are open to the public.

Dated: May 21, 2014.
Michael C. Courtney,
District Manager (Acting).

[FR Doc. 2014-12673 Filed 6-2-14; 8:45 am]

BILLING CODE 4310-GG-M